DEPARTMENT OF TRANSPORTATION

Surface Transportation Board

[Docket No. FD 35116]

R.J. Corman Railroad Company/Pennsylvania Lines Inc.—Construction and Operation Exemption—In Clearfield County, PA

AGENCY: Surface Transportation Board.

ACTION: Notice of construction and operation exemption.

SUMMARY: The Board grants an exemption under 49 U.S.C. 10502 from the prior approval requirements of 49 U.S.C. 10901 for R.J. Corman Railroad Company/Pennsylvania Lines Inc. (RJCP) to construct and operate 10.8 miles of previously abandoned rail right-of-way between Wallaceton Junction, PA., and Winburne, PA., subject to environmental mitigation. The rail line would be used with another segment by RJCP to serve a new waste-to-ethanol facility, quarry, and industrial park currently being developed by Resource Recovery, LLC near Gorton, PA., as well as several other shippers located along the line that are interested in the availability of rail service.

DATES: The exemption will be effective on June 20, 2012; petitions for reconsideration must be filed by June 11, 2012.

ADDRESSES: An original and 10 copies of all pleadings, referring to Docket No. FD 35116, must be filed with the Surface Transportation Board, 395 E Street SW., Washington, DC 20423-0001. In addition, one copy of each filing in this proceeding must be served on petitioner's representative: Ronald A. Lane, Fletcher & Sippel LLC, 29 North Wacker Drive, Suite 920, Chicago, IL 60606.

FOR FURTHER INFORMATION CONTACT: Amy C. Ziehm, (202) 245-0391. [Assistance for the hearing impaired is available through the Federal Information Relay Service (FIRS) at: 1-800-877-8339].

Copies of written comments will be available for viewing and self-copying at the Board's Public Docket Room, Room 131, and will be posted to the Board's Web site.

SUPPLEMENTARY INFORMATION: Additional information is contained in the Board's decision. Board decisions and notices are available on our Web site at www.stb.dot.gov.

Decided: May 17, 2012.
By the Board, Chairman Elliott, Vice Chairman Mulvey, and Commissioner Begeman.
Jeffrey Herzig,
Clearance Clerk.

[FR Doc. 2012-12570 Filed 5-22-12; 8:45 am]

BILLING CODE 4915-01-P